DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

American Public Transportation Association

[Docket Number FRA-2007-28306]

The American Public Transportation Association (APTA), on behalf its member railroads, seeks a permanent waiver of compliance from certain provisions of the Passenger Equipment Safety Standards of 49 CFR part 238. Specifically, the APTA requests to change the time interval requirements of 49 CFR 238.309, Periodic brake equipment maintenance, for all locomotives equipped with 26-L-type brake systems and air dryers by extending the testing interval to 4 years (1,472 days).

In 1981, FRA granted a test waiver (H-80-7) to eight railroads, permitting them to exceed the annual and biennial testing requirements of 49 CFR sections 229.27 and 229.29, in order to conduct a study of the safe service life and reliability of the locomotive brake components. On January 29, 1985, FRA expanded the waiver to permit all railroads to inspect the 26-L-type brake equipment on a triennial basis. In the 1990's, Canadian Pacific Railway (CP) and the Canadian National Railway (CN) petitioned FRA to allow them to operate locomotives into the United States that received periodic attention every 4 years. The requests were based on a decision by Transport Canada to institute a 4-year inspection program following a thorough test program in Canada. In November 2000, FRA granted conditional waivers to both CN and CP, extending the testing interval to 4 years for Canadian-based locomotives equipped with 26-L-type brake systems and air dryers. The waiver also requires all air brake filtering devices to be changed annually and the air compressor to be overhauled not less than every 6 years. In December, 2005, FRA granted the Association of American Railroads a similar waiver request to allow freight locomotives operating in the U.S. with 26-L-type brakes and functioning air dryers to operate up to 4 years (1,472 days) between periodic air brake attention.

APTA did not see any rational basis for permitting freight locomotives with 26-L-type brakes and air dryers to operate 4 years between inspections, while subjecting passenger locomotives with the same brake systems and air dryers to a 3-year inspection interval. APTA makes this conclusion based on the fact that FRA has permitted this practice without any accidents caused by the malfunctioning of a 26-L-type brake system. Accordingly, APTA requests that the inspection interval be extended to 4 years (1,472 days) for passenger locomotives equipped with 26-L-type brake systems and air dryers, and for cab cars equipped with 26-L-type brakes only when operated with locomotives with functional air dryers.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2007-28306) and must be submitted in triplicate to the Docket Clerk, DOT Central Docket Management Facility, 1200 New Jersey Avenue, SE., Room W12-140, Washington, DC 20590-0001. Communications received within 45 days of the date of this notice will be considered by FRA before final action is taken. Comments received after that date will be considered as far as practicable. All written communications concerning these proceedings are available for examination during regular business hours (9 a.m.-5 p.m.) at DOT Central Docket Management Facility, 1200 New Jersey Avenue, SE., West Building Ground Floor, Room W12-140, Washington, DC 20590-0001. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on June 13, 2007.
Grady C. Cothen, Jr.,
Deputy Associate Administrator for Safety Standards and Program Development.

[FR Doc. E7-11760 Filed 6-18-07; 8:45 am]

BILLING CODE 4910-06-P